DEPARTMENT OF COMMERCE

National Oceanic and Atmospheric Administration

[File No. 15510]

RIN 0648-XA165

Marine Mammals

AGENCY: National Marine Fisheries Service (NMFS), National Oceanic and Atmospheric Administration (NOAA), Commerce.

ACTION: Notice; issuance of permit.

SUMMARY: Notice is hereby given that Jennifer Burns, Ph.D., University of Alaska Anchorage, Biology Department, 3101 Science Circle, Anchorage, AK, has been issued a permit to conduct scientific research on marine mammal parts.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

FOR FURTHER INFORMATION CONTACT: Amy Sloan or Laura Morse, (301) 713-2289.

SUPPLEMENTARY INFORMATION: On January 24, 2011, notice was published in the Federal Register (76 FR 4091) that Dr. Burns had requested a permit to collect/receive, import, and export marine mammal parts for scientific research studies. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 15510 authorizes Dr. Burns to conduct physiology studies on development, thermoregulation, muscle performance, oxygen stores, and hormonal and other regulatory processes using marine mammal parts. Annually, Dr. Burns can obtain samples from up to 50 animals of each of the following species: Harp seal, Pagophilus groenlandica; hooded seal, Cystophora cristata; gray seal, Halichoerus grypus; bearded seal, Erignathus barbatus; ringed seal, Phoca hispida; harbor seal, Phoca vitulina; spotted seal, Phoca largha; and ribbon seal, Histriophoca fasciata, and; to import samples annually from up to 6 captive Northern fur seals, Callorhinus ursinus; and 6 captive Steller Sea lions, Eumetopias jubatus. Samples may be from subsistence-harvested animals in Alaska, and other scientific and/or subsistence collections including but not limited to the national waters of Canada, Norway, the United Kingdom, and in international waters. Samples may be collected, received nationally, and imported and exported worldwide over a five-year period for laboratory analysis to support the research objectives.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: April 25, 2011.
P. Michael Payne,
Chief, Permits, Conservation and Education Division, Office of Protected Resources, National Marine Fisheries Service.

[FR Doc. 2011-10797 Filed 5-3-11; 8:45 am]

BILLING CODE 3510-22-P